DEPARTMENT OF HEALTH AND HUMAN SERVICES

Food and Drug Administration

Peripheral and Central Nervous System Drugs Advisory Committee; Amendment of Notice

AGENCY: Food and Drug Administration, HHS.

ACTION: Notice.

The Food and Drug Administration (FDA) is announcing an amendment to the notice of meeting of the Peripheral and Central Nervous System Drugs Advisory Committee. This meeting was announced in the Federal Register of January 27, 2006 (71 FR 4593). The amendment is being made to reflect a change in Date and Time and Procedure portions of the document. An additional day is being added to this meeting and the length of time allotted for the open public hearing portion is being extended. There are no other changes.

FOR FURTHER INFORMATION CONTACT: Sohail Mosaddegh, Center for Drug Evaluation and Research (HFD-21), Food and Drug Administration, 5600 Fishers Lane (for express delivery, 5630 Fishers Lane, rm. 1093), Rockville, MD 20857, 301-827-7001, FAX: 301-827-6776, e-mail: sohail.mosaddegh@fda.hhs.gov, or the FDA Advisory Committee Information Line, 1-800-741-8138 (301-443-0572 in the Washington DC area), code 3014512543. Please call the Information Line for up-to-date information on this meeting.

SUPPLEMENTARY INFORMATION: In the Federal Register of January 27, 2006, FDA announced that a meeting of the Peripheral and Central Nervous System Drugs Advisory Committee would be held on March 7, 2006, from 8 a.m. to 5 p.m., and the open public hearing portion scheduled between approximately 1 p.m. and 2 p.m. On page 4593, in the third column, the Date and Time portion of the document is amended to read as follows:

Date and Time: The meeting will be held on March 7 and 8, 2006, from 8 a.m. to 5 p.m.

On page 4594, in the first column, in the Procedure portion of the document, the third sentence is amended to read as follows:

Procedure: Oral presentations from the public will be scheduled between approximately 1 p.m. and 5 p.m. on March 7, 2006.

This notice is issued under the Federal Advisory Committee Act (5 U.S.C. app. 2) and 21 CFR part 14, relating to the advisory committees.

Dated: February 15, 2006.
Jason Brodsky,
Acting Associate Commissioner for External Relations.

[FR Doc. E6-2541 Filed 2-22-06; 8:45 am]

BILLING CODE 4160-01-S